DEPARTMENT OF VETERANS AFFAIRS

[OMB Control No. 2900-New (NVS)]

Proposed Information Collection (Pilot Study for the National Survey of Veterans, Active Duty Service Members, Activated National Guard and Reserve Members, Family Members and Survivors) Activity; Comment Request

AGENCY: Office of Policy and Planning, Department of Veterans Affairs.

ACTION: Notice.

SUMMARY: The Office of Policy and Planning, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to conduct a pilot study for the National Survey of Veterans, Active Duty Service Members, Activated National Guard and Reserve Members, Family Members and Survivors (NSV).

DATES: Written comments and recommendations on the proposed collection of information should be received on or before December 9, 2008.

ADDRESSES: Submit written comments on the collection of information through http://www.Regulations.gov; or to Maribel Aponte, Office of Policy and Planning, Department of Veterans Affairs, 810 Vermont Ave., NW., Washington, DC 20420 or e-mail maribel.aponte@va.gov. Please refer to “OMB Control No. 2900-NEW (NSV)” in any correspondence. During the comment period, comments may be viewed online through the Federal docket Management System (FDMS) at http://www.Regulations.gov.

FOR FURTHER INFORMATION CONTACT: Maribel Aponte at (202) 461-5790 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy and Planning invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Pilot Study for the National Survey of Veterans (NSV), Active Duty Service Members, Activated National Guard and Reserve Members, Family Members and Survivors.

OMB Control Number: 2900-NEW (NSV).

Type of Review: New collection.

Abstract: The pilot will collect information on awareness, demographics and provide information needed to determine the best sampling scheme and data collection methodology for the NSV data collection effort. The pilot will also assess the response rates and coverage of the populations of interests for the sampling approach for the NSV. One of the VA's many goals is to monitor and improve veteran health and well-being. The scope of the NSV is being expanded to address the requirements of Public Law 108-454, section 805, to assess awareness of VA benefits and services among four populations: Veterans, active duty service members, National Guard and Reserve members activated under Title 10, and spouses and survivors of veterans. Because the NSV collects needed information that is not available in VA administrative files and because the infrequent administration of the NSV, it is important that we minimize the total survey error associated with the study design. It is for these reasons that the VA has planned to conduct a pilot study to inform the design of the next NSV.

Affected Public: Individuals or households.

Estimated Total Annual Burden: 371 hours.

Estimated Average Burden per Respondent: 4.7 minutes.

Frequency of Response: One-time.

Estimated Number of Respondents: 4,726.

Dated: October 3, 2008.
By direction of the Secretary.
Denise McLamb,
Program Analyst, Records Management Service.

[FR Doc. E8-24144 Filed 10-9-08; 8:45 am]

BILLING CODE 8320-01-P